EXPORT-IMPORT BANK OF THE UNITED STATES

Sunshine Act Meeting

TIME AND DATE: Thursday, October 10, 2019, at 9:30 a.m. (EST).

PLACE: 811 Vermont Avenue NW, Room 1126, Washington, DC 20571.

STATUS: Portions of this meeting will be open to the public. Remaining items will be closed to the public.

MATTERS TO BE CONSIDERED: Open Meeting of the Board of Directors of the Export-Import Bank of the United States (EXIM Bank):

1. PEFCO Secured Notes Resolutions for FY 2020

2. Small Business Update

PORTIONS OPEN TO THE PUBLIC: The meeting will be open to public participation for Item No. 1 & 2 only.

CONTACT PERSON FOR MORE INFORMATION: Members of the public who wish to attend the meeting should call Joyce Brotemarkle Stone, Office of the General Counsel, 811 Vermont Avenue NW, Washington, DC 20571 (202) 565-3336 by 4:00 p.m. (EST), Tuesday, October 8, 2019.

Joyce Brotemarkle Stone,
Assistant Corporate Secretary.

[FR Doc. 2019-20828 Filed 9-20-19; 4:15 pm]

BILLING CODE 6690-01-P